DEPARTMENT OF COMMERCE

National Institute of Standards and Technology

International Code Council: The Update Process for the International Codes

AGENCY: National Institute of Standards and Technology, Commerce.

ACTION: Notice of Final Action Hearings on U.S. Model Building Safety and Fire Prevention Codes, 2007 supplement to the 2006 editions.

SUMMARY: The International Code Council (ICC), under whose auspices the International Codes (“I-Codes”) are developed, maintains a process for updating these model codes based on receipt of proposals from interested individuals and organizations. The ICC's 14 separately published codes are each comprehensively updated and re-published every three years with a supplement released between each edition. The most current versions of the I-Codes are the 2006 editions. The 2007 supplement to the 2006 editions, the subject of this notice, will be released in July of 2007.

The purpose of this notice is to invite public participation in the Final Action Hearings of the present code development cycle that concludes in the publication of the 2007 supplement to the 2006 edition. Consistent with the procedures of the Governmental Consensus Process, following committee action taken at the Code Development Hearings held in September 2006, the ICC published the result of the hearings and invited and received public comment. At the Final Action Hearings contested proposals will again be publicly debated followed by membership action to approve or reject each scheduled item.

The publication of this notice by the National Institute of Standards and Technology (NIST) on behalf of ICC is being undertaken as a public service. NIST does not necessarily endorse, approve, or recommend any of the codes or standards referenced in the notice.

Session Dates: The Final Action Hearings of the 2006/2007 Code Development Cycle will occur between May 21 and May 26, 2007, at the Rochester Riverside Convention Center, Rochester, New York.

The agenda for the hearing as well as updates to the schedule are also posted on the ICC Web site at: http://www.iccsafe.org.

FOR FURTHER INFORMATION CONTACT: Mike Pfeiffer, PE, Vice President, Codes and Standards Development at ICC's Chicago District Office, 4051 West Flossmoor Road, Country Club Hills, Illinois 60478; Telephone 888-422-7233, Extension 4338; e-mail mpfeiffer@iccsafe.org.

SUPPLEMENTARY INFORMATION:

Background

The ICC produces a family of Codes and Standards that are comprehensive, coordinated, and are widely used across the country in the regulation of the built environment. Local, State, and Federal agencies use these codes and standards as the basis for developing regulations concerning new and existing construction. ICC's model codes and standards are each developed and maintained through voluntary consensus development processes known as the Governmental Consensus Process. Consistent with the voluntary consensus requirements of the National Technology Transfer and Advancement Act of 1995 (Pub. L. 104-113), the Governmental Consensus Process incorporates a balance of involved interests, ensures due process, provides for conclusion by consensus, the resolution of objections by interested parties, the fair consideration of all public comments, and has a prescribed process for appeal of any action.

The ICC code development process is initiated when proposals from interested persons—supported by written data, views, or arguments—are solicited, received and then published in the Proposed Changes document. This document is distributed a minimum of 30 days in advance of the Code Development Hearings and serves as the agenda for that session.

At the Code Development Hearing the ICC Code Development Committee for each code or subject area of the code considers testimony and takes action on each proposal (Approval, Disapproval, or Approval as Modified). At the conclusion of committee action on each proposal, any member of the public assembly may make a motion for a vote by the ICC members in attendance (“assembly action”) to consider an action different than the committee action. Successful assembly actions on code changes become part of the record of public comments and are considered at the Final Action Hearing. Following the Code Development Hearing, the Report of the Public Hearing is published and identifies the disposition of each proposal, the reason for the committee's action, and successful assembly actions. Any person may provide additional comment on the committee actions in the public comment period following the first hearing. These comments are published and distributed in Final Action Agenda which serves as the agenda for the second public hearing in each cycle.

Proposals which are approved by a vote of the Governmental Members of ICC at the Final Action Hearing are incorporated in either the Supplement or Edition, as applicable, with the next 18-month cycle starting with the submittal deadline for proposals. Proponents of proposals will receive a copy of all documents (Proposed Changes, Report of the Public Hearing and Final Action Agenda). Any interested party may also request a copy, free of charge, by downloading the “return coupon” from the ICC website at http://www.iccsafe.org and forwarding it as directed.

The International Codes consist of the following:

International Building Code;

International Code Council Electrical Code Administrative Provisions;

International Energy Conservation Code;

International Existing Building Code;

International Fire Code;

International Fuel Gas Code;

International Mechanical Code;

ICC Performance Code for Buildings and Facilities;

International Plumbing Code;

International Private Sewage Disposal Code;

International Property Maintenance Code;

International Residential Code;

International Urban-Wildland Interface Code; and

International Zoning Code.

Dated: April 12, 2007.
William Jeffrey,
Director.

[FR Doc. E7-7276 Filed 4-16-07; 8:45 am]

BILLING CODE 3510-13-P